DEPARTMENT OF AGRICULTURE

Forest Service

Plumas and Lassen National Forests; California; Administrative Study 4202-02-01

AGENCY: Forest Service, USDA.

ACTION: Notice of intent to prepare an Environmental Impact Statement.

SUMMARY: The USDA, Forest Service, Plumas and Lassen National Forests, in cooperation with the Pacific Southwest Research Station will prepare an Environmental Impact Statement (EIS) on a proposal to complete an administrative study on approximately 493,000 acres of National Forest System lands. The official title of the proposed administrative study is “Fire and Fuels Management, Landscape Dynamics, and Fish and Wildlife Resources: Study Design for Integrated Research on the Plumas and Lassen National Forests.”

Direction to undertake this administrative study is in the Regional Forester's Record of Decision (January 12, 2001) for the Sierra Nevada Forest Plan Amendment. In his decision, the Regional Forester directed the Forest Service and the Pacific Southwest Research Station to cooperatively design and implement a study to examine the relationship between management-caused changes in vegetation and their effects on spotted owl habitat and spotted owl population dynamics. The Regional Forester also directed that this study include group selection provisions of the Herger-Feinstein Quincy Library Group pilot project.

To meet the Regional Forester's direction, the administrative study is designed to address four principal questions:

1. Are specific combinations of defensible fuel profile zones (DFPZs) and subsequent area fuel treatments effective in reducing the extent and severity of wildlands fires? What are practical considerations and costs of constructing, maintaining, and using (for fire suppression) alternative combinations of fuel treatments? Are hypothesized fire management gains from these fuel treatment combinations (in the form of reduced property and resource losses, increased resource benefits from wildland fires, and increased suppression efficiencies) commensurate with the costs and potential adverse ecological impacts of the treatments?

2. Is small group selection effective in promoting regeneration of shade-intolerant tree species; establishing desirable forest age, species, and size distributions at landscape scales; and providing sustainable levels of timber harvest?

3. How does the combination of DFPZs, area treatments, group selection, riparian protection standards, and species-specific protection measures—collectively defined as a management regime—affect landscape dynamics such as forest structure, composition, and succession at multiple scales of space and time?

4. How will key species, such as California spotted owls and their prey, respond to changes in vegetation composition, structure, and distribution induced by different forest management regimes? How is change manifested at the individual or local population level and larger population scales?

DATES: Comments in response to this Notice of Intent concerning the scope of the analysis should be received in writing on or before February 3, 2003.

ADDRESSES: Send written comments to Forest Supervisor, Plumas National Forest, P.O. Box 11500, Quincy, CA 95971.

FOR FURTHER INFORMATION CONTACT: Anthony Matthews, Interdisciplinary Team Leader, Plumas National Forest, telephone (530) 283-5549.

SUPPLEMENTARY INFORMATION:

The Proposed Action

The proposed study encompasses eleven treatment units ranging in size from 45,000 to 79,000 acres (average size is 55,700 acres). The total area encompassed by the eleven treatment units is approximately 613,000 acres (493,000 acres of National Forest and 120,000 acres of other ownership). Two of the treatment units are located on the Lassen National Forest and nine on the Plumas National Forest.

The eleven treatment units (TUs) are divided into three treatment regimes (TRs) designed to reflect different levels of vegetative and fuels management and to create a range of forest conditions over the long term. TR-A proposes the least amount of activity and consists of 3 TUs (total of 191,000 acres); TR-B proposes the next highest amount and intensity of management activity and consists 4 TUs (total of 198,000 acres); and, TR-C proposes the greatest amount and intensity of management activity and consists of 4 TUs (total of 224,000 acres).

Specifically, TR-A includes approximately 13,854 acres of proposed defensible fuels profile zones (DFPZ) and 30,175 acres of strategically placed area treatments (SPLAT) designed to reduce fuel levels across the landscape. An estimated 11 miles of system road and 18 miles of temporary road would be constructed. Group selection is not proposed within TR-A. All activities proposed within TR-A would comply with current forest plan direction as amended by the Sierra Nevada Forest Plan Amendment.

TR-B includes approximately 15,970 acres of DFPZ and 39,185 acres of SPLATs. In addition, TR-B includes approximately 3,833 acres of group selection designed as ½-acre to 2-acre openings. An estimated 37 miles of system road and 19 miles of temporary road would be constructed. TR-B also proposes approximately 23 miles of road to be decommissioned.

TR-C includes approximately 19,055 acres of DFPZ and 46,439 acres of SPLATs. In addition, TR-C includes approximately 7,945 acres of group selection designed as ½-acre to 2-acre openings. An estimated 42 miles of system road and 34 miles of temporary road would be constructed. TR-C also proposes approximately 15 miles of road to be decommissioned.

Both TR-B and TR-C include a project-specific, non-significant forest plan amendment for the proposed deviation from current diameter and canopy cover standards. These deviations are necessary to provide the contrast and minimum spread of effects between the various management regimes and to increase the chance of invoking a range of resource responses necessary to meet the research objectives.

The proposed DFPZs and SPLATs are designed to harvest trees up to 30 inches diameter-at-breast-height (DBH). Group selection within TR-B and TR-C proposes to harvest trees up to 32 inches DBH in seven treatment units and up to 34 inches DBH in one treatment unit. These diameters deviate from current, amended forest plan direction which allows for harvest of trees up to 12 inches (20 inches for operability) in old-forest emphasis areas and 20 inches in general forest areas.

TR-B and TR-C also deviate from the current, amended forest plan standard that governs canopy cover. Current direction for areas where existing canopy cover exceeds 50% is that it not be reduced below 50%; also, where existing canopy is between 40% and 50%, no reduction is allowed. Under TR-B and TR-C, canopy cover would be reduced to a level less than 50% within the DFPZs and SPLATs. However, canopy cover would not be reduced below 40% across the treated landscape.

Implementation is proposed to occur within a six-year period. Group selection and DFPZs would be implemented in the first three to four years with SPLATs implemented during the last 3 years. Monitoring of the effects of all activities would occur during each of the implementation years and beyond for an estimated 10 to 20-year period.

Decision To Be Made

The decision to be made is whether to: (1) implement the proposed action, including the project-specific, non-significant forest plan amendment; (2) meet the purpose and need for action through some other combinations of activities; or (3) take no action at this time.

Lead Agency And Responsible Officials

The USDA Forest Service is the lead agency for this proposal. Responsible officials are James M. Peña (Forest Supervisor, Plumas National Forest, P.O. Box 11500, Quincy, CA 95971) and Edward C. Cole (Forest Supervisor, Lassen National Forest, 2550 Riverside Drive, Susanville, CA 96130).

Tentative or Preliminary Issues and Possible Alternatives

Alternatives being considered at this time include: (1) The proposed Action and (2) No Action. Other alternatives may be developed based on significant issues identified during the scoping process for this EIS. All alternatives would be expected to respond to the specific purpose and need and research objectives of the proposed administrative study.

The scoping process for this analysis includes: (a) Identifying potential issues; (b) identifying issues to be analyzed in depth; (c) eliminating non-significant issues or those previously covered by a relevant environmental analysis; (d) exploring additional alternatives; and, (e) identifying potential environmental effects of the proposed action and alternatives. As part of the current scoping process, the Forest Service is seeking information, comments, and assistance from Federal, State, and local agencies and other individuals or organizations that may be interested in or affected by the proposed action.

Public participation is especially important at several points throughout the analysis. To facilitate public participation, information about the proposed action is listed in the Plumas National Forest and the Lassen National Forest Quarterly Schedule of Proposed Actions. An information packet will be mailed to all who have expressed interest in the proposed action. Notification of the public scoping period will be published in the Feather River Bulletin, Quincy, CA, the Sacramento Bee, Sacramento, CA, and the Lassen County Times, Susanville, CA.

Comments received during the scoping process should be in writing and should be specific to the proposed action. The comments should describe, as clearly and completely as possible, any issues the individual has with the proposal. An issue is defined as a point of discussion, debate, or dispute regarding the proposed action or its environmental effects.

Identification of Permits or Licenses Required

An Air Pollution Permit and a Smoke Management Plan are required by local agencies to implement the proposed action.

Estimated Dates for Filing

The draft EIS is expected to be filed with the Environmental Protection Agency and available for public review in March 2003. The comment period on the draft EIS will be 45 days from the date the Environmental Protection Agency publishes the notice of availability of the draft EIS in the Federal Register. At that time, copies of the draft EIS will be distributed to interested and affected agencies, organizations, and members of the public for review and comment. It is very important that those interested in the management of the Plumas and Lassen National Forests participate at that time. The record of decision and final EIS are expected to be published in early June, 2003.

The Reviewer's Obligation To Comment

The Forest Service believes, at this early stage, it is important to give reviewers notice of several court rulings related to public participation in the environmental review process. First, reviewers of draft statements must structure their participation in the environmental review of the proposal so that it is meaningful and alerts an agency to the reviewer's position and contentions. Vermont Yankee Nuclear Power Corp v. NRDC, 435 U.S. 519, 553 (1978). Also, environmental objections that could be raised at the draft EIS stage, but are not raised until after completion of the final EIS, may be waived or dismissed by the courts. City of Angoon v. Hodel, 803 F.2d 1016, 1022 (9th Cir. 1986) and Wisconsin Heritages, Inc. v. Harris, 490 F. Supp 1334, 1338 (E.D. Wis. 1980). Because of these court rulings, it is very important that those interested in the proposed action participate by the close of the 45 day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. In addressing these points, reviewers may wish to refer to the Council on Environmental Quality Regulation of implementing the procedural provisions of the National Environmental Policy Act at 40 CFR 1503.3.

(Authority: 40 CFR 1501.7 and 1508.22; Forest Service Handbook 1909.15, Section 21)
Dated: November 27, 2002.
James M. Peña,
Forest Supervisor.

[FR Doc. 02-30689 Filed 12-3-02; 8:45 am]

BILLING CODE 3410-11-M